DEPARTMENT OF JUSTICE

Notice of Lodging of Consent Decree Between the United States of America and Southgate Development Co., Inc. Under Section 107 of CERCLA

Under 28 CFR 50.7, notice is hereby given that on December 14, 2006, a proposed Consent Decree (Consent Decree) with Southgate Development Co., Inc., in the case of United States v. State of Washington Dept. of Transportation and Southgate Development Co., Inc., Civil Action No. 05-5447-RLB, has been lodged in the United States District Court for the Western District of Washington.

This Consent Decree resolves the United States' claims against Southgate Development Co., Inc., under Sections 106 and 107 of CERLA, 42 U.S.C. 9606 and 9607, at the Palermo Wellfield Superfund Site in Tumwater, Washington (“The Site”). Under the terms of the Consent Decree, Southgate shall: (1) Pay to the United States $1,095,000.00 for response costs, (2) pay $30,000 to the Palermo Wellfield Environmental Trust, and (3) assign to the Palermo Wellfield Environmental Trust certain claims under insurance policies previously issued to Southgate.

The Department of Justice will receive for a period of thirty (30) days from the date of this publication comments relating to the Consent Decree. Comments should be addressed to the Assistant Attorney General, Environment and Natural Resources Division, P.O. Box 7611, U.S. Department of Justice, Washington, DC 20044-7611, and should refer to United States v. State of Washington Dept. of Transportation and Southgate Development Co., Inc., Civil Action No. 05-5447-RLB, D.J. Ref. 90-11-2-07975.

The Consent Decree may be examined at the Office of the United States Attorney, Western District of Washington, 700 Stewart Street, Seattle, Washington 98101, and at the Environmental Protection Agency, Region 10, 1200 Sixth Avenue, Seattle, Washington 98101. During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $9.00 (25 cents per page reproduction cost) payable to the United States Treasury for payment.

Robert E. Maher, Jr.,
Assistant Section Chief, Environmental Enforcement Section, Environment and Natural Resources Division, United States Department of Justice.

[FR Doc. 06-9791 Filed 12-20-06; 8:45 am]

BILLING CODE 4410-15-M